DEPARTMENT OF HOUSING AND URBAN DEVELOPMENT

[Docket No. FR-4922-N-23]

Privacy Act of 1974; Notice of a Computer Matching Program between HUD and the Social Security Administration: Matching Tenant Data in Assisted Housing Programs

AGENCY: Office of the Chief Information Officer, HUD.

ACTION: Notice of a computer matching program between the Department of Housing and Urban Development HUD and the Social Security Administration (SSA).

SUMMARY: Pursuant to the Computer Matching and Privacy Protection Act of 1988, as amended, and the Office of Management and Budget's (OMB) Guidance on the statute, HUD is updating its notice of a matching program involving comparisons between income data provided by participants in HUD's assisted housing programs and independent sources of income information. The matching program will be carried out to detect inappropriate (excessive or insufficient) housing assistance under the National Housing Act, the United States Housing Act of 1937, section 101 of the Housing and Community Development Act of 1965, the Native American Housing Assistance and Self-Determination Act of 1996, and the Quality Housing and Work Responsibility Act (QHWRA) of 1998. The program provides for the verification of the matching results and the initiation of appropriate administrative or legal actions, primarily through public housing agencies (PHAs) and owners and agents (all collectively referred to as POAs). Indian tribes and tribally designated housing entities (TDHEs) are not a mandatory component of the computer matching program. Participation by Indian tribes and TDHEs is discretionary; however, they may receive and use social security (SS) and supplemental security income (SSI) matching information provided by HUD.

This notice provides an overview of computer matching for HUD's rental assistance programs. Specifically, the notice describes HUD's program for computer matching of its tenant data to SSA's SS and SSI income benefits data.

DATES: Effective Date: Computer matching is expected to begin 30 days after publication of this notice in the Federal Register, unless comments are received which will result in a contrary determination, or 40 days from the date a computer matching agreement is signed, whichever is later.

Comments Due Date: November 6, 2006.

ADDRESSES: Interested persons are invited to submit comments regarding this notice to the Rules Docket Clerk, Office of General Counsel, Department of Housing and Urban Development, 451 Seventh Street, SW., Room 10276, Washington, DC 20410-0500. Communications should refer to the above docket number and title. Comments sent by facsimile are not acceptable. A copy of each communication submitted will be available for public inspection and copying between 8 a.m. and 5 p.m. weekdays at the above address.

FOR FURTHER INFORMATION CONTACT: For Privacy Act: Jeanette Smith, Departmental Privacy Act Officer, Department of Housing and Urban Development, 451 Seventh Street, SW., Room 4176, Washington, DC 20410, telephone number (202) 708-2374. A telecommunications device for hearing- and speech-impaired individuals (TTY) is available at (800) 877-8339 (Federal Information Relay Service). For all other information: Myra Newbill, Project Manager, Tenant Assessment Sub-System, Real Estate Assessment Center, Department of Housing and Urban Development, 550 12th Street, SW., Suite 100, Washington, DC 20410, telephone number (202) 475-8988.

SUPPLEMENTARY INFORMATION: This notice supersedes a similar notice published in the Federal Register on March 9, 2004 (69 FR 11033). Since that time, the matching program has continued to be implemented on a large scale. In previous years, the computer matching was carried out for random samples of households receiving rental assistance or for selected POAs. During calendar year 1999, HUD used the matching program for a large-scale computer matching project involving over 2 million households. HUD announced plans for the large-scale implementation of the program on September 14, 1999 (64 FR 49817). The Computer Matching and Privacy Protection Act (CMPPA) of 1988, an amendment to the Privacy Act of 1974 (5 U.S.C. 552a), OMB's guidance on this statute entitled “Final Guidance Interpreting the Provisions of Public Law 100-503, the CMPPA of 1988” (OMB Guidance), and OMB Circular No. A-130 requires publication of notices of computer matching programs. Appendix I to OMB's Revision of Circular No. A-130, “Transmittal Memorandum No. 4, Management of Federal Information Resources,” prescribes Federal agency responsibilities for maintaining records about individuals. In compliance with the CMPPA and Appendix I to OMB Circular No. A-130, copies of this notice are being provided to the Committee on Government Reform and Oversight of the House of Representatives, the Committee of Homeland Security and Governmental Affairs of the Senate, and OMB's Office of Information and Regulatory Affairs.

I. Authority

This matching program is being conducted pursuant to section 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the QHWRA Act of 1998 (42 U.S.C. 1437a(f)). The Stewart B. McKinney Homeless Assistance Amendments Act of 1988 authorizes HUD and PHAs (but not private owners/agents for subsidized multifamily projects) to request wage and claim information from State Wage Information Collection Agencies (SWICAs) responsible for administering State unemployment laws in order to undertake computer matching. This Act authorizes HUD to require applicants and participants to sign a consent form authorizing HUD or the PHA to request wage and claim information from the SWICAs. The Housing and Community Development Act of 1987 authorizes HUD to require applicants and participants in HUD-administered programs involving rental assistance to disclose to HUD their social security numbers (SSNs) as a condition of initial or continuing eligibility for participation in the programs. The QHWRA of 1998, section 508(d), 42 U.S.C. 1437a(f) authorizes the Secretary of HUD to require disclosure by the tenant to the PHA of income information received by the tenant from HUD as part of the income verification procedures of HUD. The QHWRA was amended by Public Law 106-74, which extended the disclosure requirements to participants in section 8, section 202, and section 811 assistance programs. The participants are required to disclose the HUD-provided income information to owners responsible for determining the participants' eligibility or level of benefits.

II. Objectives To Be Met by the Matching Program

HUD's primary objective in implementing the computer matching program is to increase the availability of rental assistance to individuals who meet the requirements of the rental assistance programs. Other objectives include determining the appropriate level of rental assistance, and deterring and correcting abuse in rental assistance housing programs. In meeting these objectives, HUD also is carrying out its responsibility under 42 U.S.C. 1437f(K) to ensure that income data provided to POAs by household members is complete and accurate. HUD's various assisted housing programs, available through POAs, require that applicants meet certain income and other criteria to be eligible for rental assistance. In addition, tenants generally are required to report the amounts and sources of their income at least annually. However, under the QHWRA of 1998, PHA must offer tenants the option to pay a flat rent, or an income-based rent annually. Those tenants who select a flat rent will be required to recertify income at least every three years. In addition, the Changes to the Admissions and Occupancy Final Rule (March 29, 2000; 65 FR 16692) specified that household composition must be recertified annually for tenants who select a flat rent or income-based rent. The matching program identifies tenants receiving inappropriate (excessive or insufficient) rental assistance resulting from under or over-reported household income.

When excessive rental assistance amounts are identified, some tenants move out of assisted units making more units available to assist eligible families, while other tenants agree to repay excessive rental assistance, which increases subsidy payments to HUD. When tenants continue to be eligible for rental assistance, but at a reduced level, the tenants will be required to increase their contributions toward rent. Tribes and TDHEs set admission and eligibility requirements pursuant to the requirements contained in the Native American Housing Assistance and Self-Determination Act of 1996. They are not required to provide tenant data to the Department. Therefore, their participation is discretionary.

III. Program Description

In this computer matching program, tenant-provided information included in HUD's automated files will be compared to data from the SSA on a quarterly basis. HUD will request SSA matching of SS and SSI benefits information monthly for residents due to be recertified in four months and each three months thereafter. New tenants will be processed in the next monthly SSA cycle. No tenant records will be forwarded to HHS for matching against NDNH until SSA has verified their ID. Indian Tribes and Tribally Designated Housing Entities may receive and use SS and SSI matching information provided by HUD. HUD may also request SWICA matching to supplement SSA matching and income verification. PHAs, but not owners and agents, may also request SWICA matching. For matching purposes, HUD will disclose to SSA and SWICA only tenant personal identifiers such as SSNs, surnames, and dates of birth. The SSA and SWICAs will conduct the matching of the HUD-provided personal identifiers to personal identifiers included in their automated files. Those agencies will provide income data to HUD only for those individuals with matching personal identifiers. HUD will then compare income data obtained from the sources cited above to tenant-reported income data included in HUD's system of records known as the Tenant Eligibility Verification Files (HUD/REAC-1) published on August 30, 2000 (65 FR 52777). HUD/REAC-1 receives tenant data from the Tenant Housing Assistance and Contract Verification Data (HUD/H-11), published on March 13, 1997 (62 FR 11909). The tenant income comparisons identify tenants whose incomes require further verification to determine if the tenants received appropriate levels of rental assistance.

A. Income Verification

HUD will normally request that POAs verify matching results as described below. However, under certain circumstances, HUD Program staff or the HUD Office of Inspector General (OIG) may verify tenant incomes with independent income sources. For example, such circumstances may include: (a) When HUD declares a PHA in breach of an annual contributions contract; or (b) when tenants fail to disclose SSA data, or tenants commit other serious violations, and HUD's analysis of the data could support legal actions.

(1) Verification of SS and SSI Benefits Data. SSA's SS and SSI benefits data may be disclosed to POAs. (The Foster Care Independence Act of 1999; Public Law 106-169 provided a new Title VIII of the Social Security Act, which authorized special benefits for certain World War II veterans.) Therefore, after receiving this data from the SSA and comparing it to tenant-reported income, HUD will disclose SS and SSI benefits data to POAs. These disclosures will include information on monthly SS and SSI benefits data and, where applicable, income discrepancy information between tenant-reported data, as reported by POAs, and the income amounts provided by the SSA. POAs will use this information in periodic verifications of tenant incomes that are required to determine program eligibility and rental assistance amounts. HUD has implemented secure electronic facilities for transmitting SS and SSI benefits data to all POAs.

(2) Verification of SWICA Data. HUD may disclose matching results for SWICAs wage and unemployment claim data directly to PHAs. The comparison of SWICA data and the tenant-reported data will reveal whether income verification is necessary. If tenant contests the accuracy of the SWICA reported information, the PHA must then obtain wage information directly from the tenant's employers, including information from prior years, when appropriate. The SWICA unemployment claim data must be verified with the tenant. Verification of the income data with employers would only be required when the tenant disputes the SWICA data.

B. Administrative or Legal Actions

Regarding all the matching described in this notice, HUD anticipates that POAs will take appropriate action in consultation with tenants to:

(1) Resolve income disparities between tenant-reported and independent income source data; and

(2) Use correct income amounts in determining housing rental assistance. POAs must compute the rent in full compliance with all applicable occupancy regulations. POAs must ensure that they use the correct income and correctly compute the rent. POAs may not suspend, terminate, reduce, or make a final denial of any rental housing assistance to any tenant as the result of information produced by this matching program until: (a) The tenant has received notice from the POA of its findings and has been informed of the opportunity to contest such findings; and (b) either the notice period provided in applicable regulations of the program, or 30 days, whichever is later, has expired. In most cases, POAs will resolve income discrepancies in consultation with tenants. Additionally, serious violations, which POAs, HUD Program staff, or the HUD OIG verify, should be referred for full investigation and appropriate civil and/or criminal proceedings.

IV. Records To Be Matched

SSA will conduct the matching of tenant SSNs and additional identifiers (such as surnames and dates of birth) to tenant data that HUD supplies from its system of records known as the Tenant Housing Assistance and Contract Verification Data (HUD/H-11). Within HUD, this system of records includes two automated systems known as the Multifamily Tenant Characteristics System (a system for programs under the Office of the Assistant Secretary for Public and Indian Housing) and the Tenant Rental Assistance Certification System (a system for programs under the Office of the Assistant Secretary for Housing—Federal Housing Commissioner). POAs provide HUD with the tenant data that is included in HUD/H-11. The SSA will match the HUD/H-11 records to the SSA's Earnings Recording and Self-Employment Income System (HHS/SSA/OSR, 09-60-0059) (Earnings Record); Master Beneficiary Record (HHS/SSA/OSR, 09-60-0090) (MBR); and Supplemental Security Income Record (HHS/SSA/OSR, 09-60-0103) (SSR). HUD will place matching data into its system of records known as the Tenant Eligibility Verification Files (HUD/REAC-1). The HUD/REAC-1 records are specifically exempt from certain provisions of the Privacy Act, as described in notices published on February 28, 1994 (59 FR 9406) and March 30, 1994 (59 FR 14869). HUD may also coordinate SWICA income computer matches for its rental assistance programs using tenant SSNs and surnames. SWICAs will match tenant records to machine-readable files of quarterly wage data and unemployment insurance benefit data. Results from this matching will be provided to HUD or PHAs, which will then determine whether tenants have unreported or underreported income. The matching will be done in accordance with a written agreement between the SWICA and HUD. Tenant data may be matched to the SSA's Master Files of Social Security Number Holders (HHS/SSA/OSR, 09-60-0058) and Death Master Files for the purpose of validating SSNs contained in tenant records. These records will also be used to validate SSNs for all applicants, tenants, and household members who are six (6) years of age and over to identify noncompliance with program eligibility requirements. HUD will compare tenant SSNs provided by POAs to reveal duplicate SSNs and potential duplicate housing assistance.

V. Period of the Match

The computer matching program will be conducted according to agreements between HUD and the SSA and SWICA. The computer matching agreements for the planned matches will terminate either when the purpose of the computer matching program is accomplished, or 18 months from the date the agreement is signed, whichever comes first. The agreements may be extended for one 12-month period, with the mutual agreement of all involved parties, if the following conditions are met:

(1) Within three months of the expiration date, all Data Integrity Boards review the agreement, find that the program will be conducted without change, and find a continued favorable examination of benefit/cost results; and (2) All parties certify that the program has been conducted in compliance with the agreement.

The agreement may be terminated, prior to accomplishment of the computer matching purpose or 18 months from the date the agreement is signed (whichever comes first), by the mutual agreement of all involved parties within 30 days of written notice.

Dated: September 29, 2006.
Lisa Schlosser,
Chief Information Officer.

[FR Doc. E6-16435 Filed 10-4-06; 8:45 am]

BILLING CODE 4210-67-P